NATIONAL SCIENCE FOUNDATION

Notice of Application of Emergency Provision Under the Antarctic Conservation Act

AGENCY: National Science Foundation.

ACTION: Notice of application of emergency provision for hazardous waste to be stored at McMurdo Station, Antarctica for more than 15 months due to an emergency, pursuant to 45 CFR 671.17.

SUMMARY: The Office of Polar Programs, National Science Foundation, is giving notice that an emergency relating to considerations of human health and safety caused hazardous waste to be stored at McMurdo Station for more than 15 months. Hazardous waste in the form of batteries, regulated medical waste, laboratory chemical waste, gas cylinders, paints and solvents, petroleum-based compounds and fuel contaminated soils, with an aggregate of approximately 385,000 lbs. net weight, was, consistent with waste management best practices, segregated, packaged, and stored in a secured location for removal from the station.

SUPPLEMENTARY INFORMATION: The waste was to be removed in February 2021, at the end of the 2021-2021 season. Due to the world-wide pandemic, the United States Antarctic Program severely curtailed its activities on the continent and directed efforts to activities required to ensure the safe and continuous operation of all three USAP stations and activities required to avoid irreversible damage to science or operational infrastructure. In order to minimize the risk of introducing COVID-19 to the Antarctic continent, personnel was reduced to a minimum and the annual ships for resupply and waste removal were cancelled for the season. The removal of the hazardous waste is a priority for removal during the January-February 2022 time period.

FOR FURTHER INFORMATION CONTACT: Dr. Polly A. Penhale, Senior Advisor, Environment at 703-292-7420.

Authority: 45 CFR 671.17.

Erika N. Davis,
Program Specialist, Office of Polar Programs.

[FR Doc. 2021-08186 Filed 4-20-21; 8:45 am]

BILLING CODE 7555-01-P